DEPARTMENT OF HOMELAND SECURITY

Coast Guard

33 CFR Part 100

[Docket No. USCG-2023-0511

Special Local Regulation; Swim the Loop and Motts Channel Sprint; Wrightsville Beach, NC

AGENCY: Coast Guard, DHS.

ACTION: Notification of enforcement of regulation.

SUMMARY: The Coast Guard will enforce special local regulations for the “Swim the Loop and Motts Channel Sprint” on October 15, 2023, to provide for the safety of life on navigable waterways during this event. Our regulation for marine events within the Fifth Coast Guard District identifies the regulated area for this event, which lies in the vicinity of Wrightsville Beach, NC. During the enforcement period, the operator of any vessel in the regulated area must comply with directions from the Patrol Commander or any official authorized by the Captain of the Port (COTP), Sector North Carolina.

DATES: The regulation identified in the “Event” column of Table 4 to 33 CFR 100.501(i)(4) as covering the Swim the Loop and Motts Channel Sprint will be enforced from 7 a.m. until 11 a.m. on October 15, 2023.

FOR FURTHER INFORMATION CONTACT: If you have questions about this notification of enforcement, call or email Chief Petty Officer Elvin Rodriguez, Waterways Division, U.S. Coast Guard Sector North Carolina, Wilmington, NC; telephone 910-772-2239, email NCMarineevents@uscg.mil.

SUPPLEMENTARY INFORMATION: The Coast Guard will enforce special local regulations in 33 CFR 100.501(i)(4) for the Swim the Loop and Motts Channel Sprint regulated area from 7 a.m. to 11 a.m. on October 15, 2023. As indicated in a footnote to Table 4 of § 100.501(i)(4), the enforcement dates and times for each of the listed events in this table are subject to change, and the October date differs from dates provided in the table. We are making this special local regulation subject to enforcement at the stated time to provide for the safety of life on navigable waterways during the day of the event. Table 4 to § 100.501(i)(4) specifies the location of the regulated area for this event as comprising the navigable waters surrounding Harbor Island, NC, including the Intracoastal Waterway, Lees Cut, Banks Channel and Motts Channel. During the enforcement period, as reflected in § 100.501(i)(4), the operator of any vessel in the regulated area must comply with directions from the Patrol Commander or from any official representative of the COTP, Sector North Carolina.

In addition to this notification of enforcement in the Federal Register, the Coast Guard plans to provide notification of this enforcement period via the Local Notice to Mariners, Marine Safety Information Bulletin, and Broadcast Notice to Mariners.

Timothy J. List,
Captain, U.S. Coast Guard, Captain of the Port, Sector North Carolina.

[FR Doc. 2023-20566 Filed 9-21-23; 8:45 am]

BILLING CODE 9110-04-P